DEPARTMENT OF JUSTICE

Office of Justice Programs

[OJP (BJA) Docket No. 1602]

Meeting of the Public Safety Officer Medal of Valor Review Board

AGENCY: Bureau of Justice Assistance (BJA), Office of Justice Programs (OJP), DOJ.

ACTION: Notice of meeting.

SUMMARY: This is an announcement of a meeting of the Public Safety Officer Medal of Valor Review Board to review and vote on recommendations for the 2011-2012 Medal of Valor nominations, consider issues relevant to the nomination review process, discuss pending ceremonies and upcoming activities and other relevant Board issues related thereto. The meeting date and time is listed below.

DATES: September 20, 2012, 9 a.m. to 1 p.m. ET.

ADDRESSES: This meeting will take place at 810 7th Street NW., Washington, DC 20531.

FOR FURTHER INFORMATION CONTACT: Gregory Joy, Policy Advisor, Bureau of Justice Assistance, Office of Justice Programs, 810 7th Street NW., Washington, DC 20531, by telephone at (202) 514-1369, toll free (866) 859-2687, or by email at gregory.joy@usdoj.gov.

SUPPLEMENTARY INFORMATION: The Public Safety Officer Medal of Valor Review Board carries out those advisory functions specified in 42 U.S.C. 15202. Pursuant to 42 U.S.C. 15201, the President of the United States is authorized to award the Public Safety Officer Medal of Valor, the highest national award for valor by a public safety officer.

The primary purpose of this meeting is to review and vote on recommendations for the 2011-2012 Medal of Valor nominations.

This meeting is open to the public at the offices of the Bureau of Justice Assistance. For security purposes, members of the public who wish to participate must register at least seven (7) days in advance of the meeting/conference call by contacting Mr. Joy. All interested participants will be required to meet at the Bureau of Justice Assistance, Office of Justice Programs; 810 7th Street NW., Washington, DC and will be required to sign in at the front desk. Note: Photo identification will be required for admission. Additional identification documents may be required.

Access to the meeting will not be allowed without prior registration. Anyone requiring special accommodations should contact Mr. Joy at least seven (7) days in advance of the meeting. Please submit any comments or written statements for consideration by the Review Board in writing at least seven (7) days in advance of the meeting date.

Gregory Joy,
Policy Advisor/Designated Federal Officer, Bureau of Justice Assistance.

[FR Doc. 2012-21004 Filed 8-24-12; 8:45 am]

BILLING CODE 4410-18-P